DEPARTMENT OF TRANSPORTATION

Federal Aviation Administration

14 CFR Part 97

[Docket No. 30545; Amdt. No. 3214]

Standard Instrument Approach Procedures, Weather Takeoff Minimums; Miscellaneous Amendments

AGENCY: Federal Aviation Administration (FAA), DOT.

ACTION: Final rule.

SUMMARY: This amendment establishes, amends, suspends, or revokes Standard Instrument Approach Procedures (SIAPs) and/or Weather Takeoff Minimums for operations at certain airports. These regulatory actions are needed because of the adoption of new or revised criteria, or because of changes occurring in the National Airspace System, such as the commissioning of new navigational facilities, addition of new obstacles, or changes in air traffic requirements. These changes are designed to provide safe and efficient use of the navigable airspace and to promote safe flight operations under instrument flight rules at the affected airports.

DATES: This rule is effective April 16, 2007. The compliance date for each SIAP and/or Weather Takeoff Minimums is specified in the amendatory provisions.

The incorporation by reference of certain publications listed in the regulations is approved by the Director of the Federal Register as of April 16, 2007.

ADDRESSES: Availability of matters incorporated by reference in the amendment is as follows:

For Examination—

1. FAA Rules Docket, FAA Headquarters Building, 800 Independence Avenue, SW., Washington, DC 20591;

2. The FAA Regional Office of the region in which the affected airport is located;

3. The National Flight Procedures Office, 6500 South MacArthur Blvd., Oklahoma City, OK 73169 or,

4. The National Archives and Records Administration (NARA). For information on the availability of this material at NARA, call 202-741-6030, or go to: http://www.archives.gov/federal_register/code_of_federal_regulations/ibr_locations.html.

For Purchase—Individual SIAP and Weather Takeoff Minimums copies may be obtained from:

1. FAA Public Inquiry Center (APA-200), FAA Headquarters Building, 800 Independence Avenue, SW., Washington, DC 20591; or

2. The FAA Regional Office of the region in which the affected airport is located.

By Subscription—Copies of all SIAPs and Weather Takeoff Minimums mailed once every 2 weeks, are for sale by the Superintendent of Documents, U.S. Government Printing Office, Washington, DC 20402.

FOR FURTHER INFORMATION CONTACT: Donald P. Pate, Flight Procedure Standards Branch (AFS-420), Flight Technologies and Programs Division, Flight Standards Service, Federal Aviation Administration, Mike Monroney Aeronautical Center, 6500 South MacArthur Blvd. Oklahoma City, OK. 73169 (Mail Address: P.O. Box 25082 Oklahoma City, OK 73125) telephone: (405) 954-4164.

SUPPLEMENTARY INFORMATION: This amendment to Title 14 of the Code of Federal Regulations, Part 97 (14 CFR part 97), establishes, amends, suspends, or revokes SIAPs and/or Weather Takeoff Minimums. The complete regulatory description of each SIAP and/or Weather Takeoff Minimums is contained in official FAA form documents which are incorporated by reference in this amendment under 5 U.S.C. 552(a), 1 CFR part 51, and 14 CFR part 97.20. The applicable FAA Forms are identified as FAA Forms 8260-3, 8260-4, 8260-5 and 8260-15A. Materials incorporated by reference are available for examination or purchase as stated above.

The large number of SIAPs and/or Weather Takeoff Minimums, their complex nature, and the need for a special format make their verbatim publication in the Federal Register expensive and impractical. Further, airmen do not use the regulatory text of the SIAPs and/or Weather Takeoff Minimums but refer to their depiction on charts printed by publishers of aeronautical materials. Thus, the advantages of incorporation by reference are realized and publication of the complete description of each SIAP and/or Weather Takeoff Minimums contained in FAA form documents is unnecessary. The provisions of this amendment state the affected CFR sections, with the types and effective dates of the SIAPs and/or Weather Takeoff Minimums. This amendment also identifies the airport, its location, the procedure identification and the amendment number.

The Rule

This amendment to 14 CFR part 97 is effective upon publication of each separate SIAP and/or Weather Takeoff Minimums as contained in the transmittal. Some SIAP and/or Weather Takeoff Minimums amendments may have been previously issued by the FAA in a Flight Data Center (FDC) Notice to Airmen (NOTAM) as an emergency action of immediate flight safety relating directly to published aeronautical charts. The circumstances which created the need for some SIAP, and/or Weather Takeoff Minimums amendments may require making them effective in less than 30 days. For the remaining SIAPs and/or Weather Takeoff Minimums, an effective date at least 30 days after publication is provided.

Further, the SIAPs and/or Weather Takeoff Minimums contained in this amendment are based on the criteria contained in the U.S. Standard for Terminal Instrument Procedures (TERPS). In developing these SIAPs and/or Weather Takeoff Minimums, the TERPS criteria were applied to the conditions existing or anticipated at the affected airports. Because of the close and immediate relationship between these SIAPs and/or Weather Takeoff Minimums and safety in air commerce, I find that notice and public procedure before adopting these SIAPs and/or Weather Takeoff Minimums are impracticable and contrary to the public interest and, where applicable, that good cause exists for making some SIAPs and/or Weather Takeoff Minimums effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air traffic control, Airports, Incorporation by reference, and Navigation (Air).

Issued in Washington, DC, on April 6, 2007.
James J. Ballough,
Director, Flight Standards Service.

Adoption of the Amendment

Accordingly, pursuant to the authority delegated to me, under Title 14, Code of Federal Regulations, Part 97 (14 CFR part 97) is amended by establishing, amending, suspending, or revoking Standard Instrument Approach Procedures and Weather Takeoff Minimums effective at 0901 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

Effective 10 May 2007

Bessemer, AL, Bessemer, ILS OR LOC RWY 5, Amdt 1

El Dorado, AR, South Arkansas Regional at Goodwin Field, ILS OR LOC RWY 22, Amdt 1

Little Rock, AR, Adams Field, RADAR-1, Amdt 17

Los Angeles, CA, Los Angeles Intl, ILS OR LOC RWY 7L, Amdt 6

Los Angeles, CA, Los Angeles Intl, ILS OR LOC RWY 7R, Amdt 5

Los Angeles, CA, Los Angeles Intl, RNAV (GPS) RWY 7L, Amdt 1

Los Angeles, CA, Los Angeles Intl, RNAV (GPS) RWY 7R, Amdt 1

Los Angeles, CA, Los Angeles Intl, Takeoff Minimums and Textual DP, Amdt 11

San Bernardino, CA, San Bernardino International, LOC Y RWY 6, Orig

San Bernardino, CA, San Bernardino International, ILS OR LOC Z RWY 6, Amdt 2

Wilmington, DE, New Castle, ILS OR LOC RWY 1, Amdt 21

West Palm Beach, FL, Palm Beach Intl, ILS OR LOC RWY 9L, Amdt 24

Thomasville, GA, Thomasville Regional, Takeoff Minimums and Obstacle DP, Amdt 1

Phillipsburg, KS, Phillipsburg Muni, NDB-A, Amdt 1

Lafayette, LA, Lafayette Regional, RNAV (GPS) RWY 4R, Orig

Lafayette, LA, Lafayette Regional, RNAV (GPS) RWY 22L, Orig

Lafayette, LA, Lafayette Regional, ILS OR LOC/DME RWY 4R, Amdt 1

Lafayette, LA, Lafayette Regional, VOR RWY 4R, Amdt 2

New Orleans, LA, Louis Armstrong New Orleans Intl, Takeoff Minimums and Obstacle DP, Amdt 1

Shreveport, LA, Shreveport Regional, Takeoff Minimums and Textual DP, Orig

Friendly, MD, Potomac Airfield, VOR/DME RWY 6, Orig, CANCELLED

Friendly, MD, Potomac Airfield, RNAV (GPS) RWY 6, Orig

Friendly, MD, Potomac Airfield, GPS RWY 6, Orig, CANCELLED

Boonville, MO, Jesse Viertel Memorial, RNAV (GPS) RWY 18, Orig

Boonville, MO, Jesse Viertel Memorial, GPS RWY 18, Orig, CANCELLED

Boonville, MO, Jesse Viertel Memorial, RNAV (GPS) RWY 36, Orig

Boonville, MO, Jesse Viertel Memorial, GPS RWY 36, Orig, CANCELLED

Boonville, MO, Jesse Viertel Memorial, VOR-A, Amdt 5

Boonville, MO, Jesse Viertel Memorial, Takeoff Minimums and Textual DP, Orig

Fulton, MO, Elton Hensley Memorial, NDB RWY 5, Amdt 1B, CANCELLED

Fulton, MO, Elton Hensley Memorial, NDB OR GPS RWY 23, Amdt 1A, CANCELLED

Kansas City, MO, Kansas City Intl, ILS OR LOC RWY 9, Amdt 12

Warrensburg, MO, Skyhaven, VOR/DME RNAV OR GPS RWY 18, Amdt 1, CANCELLED

Warrensburg, MO, Skyhaven, VOR/DME-A, Amdt 2

Warrensburg, MO, Skyhaven, RNAV (GPS) RWY 18, Orig

Warrensburg, MO, Skyhaven, RNAV (GPS) RWY 36, Orig

Warrensburg, MO, Skyhaven, GPS RWY 36, Orig, CANCELLED

Warrensburg, MO, Skyhaven, Takeoff Minimums and Textual DP, Amdt 1

Clinton, NC, Sampson County, RNAV (GPS) RWY 6, Amdt 1

Clinton, NC, Sampson County, LOC RWY 6, Amdt 2

Clinton, NC, Sampson County, Takeoff Minimums and Obstacle DP, Orig

Edenton, NC, Northeastern Rgnl, LOC RWY 19, Orig

Wilmington, NC, Wilmington Intl, ILS OR LOC/DME RWY 6, Orig

Wilmington, NC, Wilmington Intl, ILS OR LOC RWY 24, Orig

Wilmington, NC, Wilmington Intl, Takeoff Minimums and Obstacle DP, Amdt 1

Goldsboro, NC, Goldsboro-Wayne Muni, Takeoff Minimums and Textual DP, Amdt 1

Fremont, NE, Fremont Muni, RNAV (GPS) RWY 13, Orig

Fremont, NE, Fremont Muni, GPS RWY 13, Orig-B, CANCELLED

Newark, NJ, Newark Liberty Intl, RNAV (RNP) Y RWY 22L, Orig-B

Silver City, NM, Grant County, LOC/DME RWY 26, Amdt 5

Shirley, NY, Brookhaven, RNAV (GPS) RWY 15, Orig

Shirley, NY, Brookhaven, RNAV (GPS) Y RWY 24, Amdt 1

Shirley, NY, Brookhaven, RNAV (GPS) Z RWY 24, Orig

Norman, OK, University of Oklahoma Westheimer, ILS OR LOC RWY 17, Orig-A

Allentown, PA, Lehigh Valley Intl, TACAN-C, Orig

Charleston, SC, Charleston AFB/INTL, Radar-1, Amdt 17, CANCELLED

Dallas, TX, Addison, ILS OR LOC RWY 15, Amdt 11

Dallas, TX, Addison, ILS OR LOC RWY 33, Amdt 3

Dallas, TX, Addison, RNAV (GPS) RWY 15, Amdt 1

Dallas, TX, Addison, RNAV (GPS) RWY 33, Amdt 1

Dallas-Fort Worth, TX, Dallas Fort Worth Intl, CONVERGING ILS RWY 13R, Amdt 6

Dallas-Fort Worth, TX, Dallas Fort Worth Intl, CONVERGING ILS RWY 31R, Amdt 7

Dallas-Fort Worth, TX, Dallas Fort Worth Intl, ILS OR LOC RWY 13R, Amdt 7

Dallas-Fort Worth, TX, Dallas Fort Worth Intl, ILS OR LOC RWY 31R, Amdt 13

Dallas-Fort Worth, TX, Dallas Fort Worth Intl, RNAV (GPS) Y RWY 13R, Amdt 1

Dallas-Fort Worth, TX, Dallas Fort Worth Intl, RNAV (GPS) Y RWY 31R, Amdt 1

Dallas-Fort Worth, TX, Dallas Fort Worth Intl, RNAV (GPS) Y RWY 31L, Orig

Dallas-Fort Worth, TX, Dallas Fort Worth Intl, RNAV (RNP) Z RWY 13R, Orig

Dallas-Fort Worth, TX, Dallas Fort Worth Intl, RNAV (RNP) Z RWY 31L, Orig

Dallas-Fort Worth, TX, Dallas Fort Worth Intl, RNAV (RNP) Z RWY 31R, Orig

Houston, TX, David Wayne Hooks Memorial, RNAV (GPS) RWY 17R, Amdt 1

Houston, TX, David Wayne Hooks Memorial, RNAV (GPS) RWY 35L, Amdt 1

Houston, TX, Houston-Southwest, RNAV (GPS) RWY 9, Amdt 2

Houston, TX, Houston-Southwest, RNAV (GPS) RWY 27, Amdt 1

Lynchburg, VA, Falwell, Takeoff Minimums and Textual DP, Orig

Effective 05 July 2007

Birmingham, AL, Birmingham Intl, RADAR-1, Amdt 19B, CANCELLED

La Porte, IN, La Porte Muni, RNAV (GPS) RWY 2, Orig

La Porte, IN, La Porte Muni, RNAV (GPS) RWY 20, Orig

La Porte, IN, La Porte Muni, LOC/NDB RWY 2, Amdt 1

La Porte, IN, La Porte Muni, VOR-A, Amdt 7

La Porte, IN, La Porte Muni, GPS RWY 2, Orig-B, CANCELLED

La Porte, IN, La Porte Muni, VOR/DME RNAV OR GPS RWY 20, Amdt 5, CANCELLED

La Porte, IN, La Porte Muni, Takeoff Minimums and Obstacle Departure Procedures, Amdt 2

The FAA published a Cancellation in Docket No. 30543 Amdt No. 3212 to Part 97 of the Federal Aviation Regulations (Vol 72, FR No. 63, page 15827, dated April 3, 2007) Under Section 97.23 effective 10 May 2007, which is hereby rescinded:

Marysville, CA, Yuba County, VOR RWY 32, Amdt 10D, CANCELLED

The FAA published an Original in Docket No. 30543 Amdt No. 3212 to Part 97 of the Federal Aviation Regulations (Vol 72, FR No. 63, page 15827, dated April 3, 2007) under Section 97.33 effective 10 May 2007 which is hereby rescinded:

Middlesboro, KY, Middlesboro-Bell County, RNAV (GPS)-A, Orig

[FR Doc. E7-7063 Filed 4-13-07; 8:45 am]

BILLING CODE 4910-13-P